NATIONAL SCIENCE FOUNDATION

Special Emphasis Panel in Elementary, Secondary, and Informal Education; Notice of Meeting

Name: Special Emphasis Panel in Elementary, Secondary and Informal Education (59).

Date/Time: May 21 and May 22, 2001, 8:00 a.m. to 5:30 p.m.

Place: The Governor's House Hotel, 1615 Rhode Island Ave., NW, Washington, DC.

Type of Meeting: Closed.

Contact Person: Mr. John S. Bradley, Section Head, Division of Elementary, Secondary and Informal Education, National Science Foundation, 4201 Wilson Boulevard, Arlington, VA 22230. Telephone: (703) 292-8620.

Purpose of Meeting: To provide advice and recommendations concerning proposals for the Centers For Learning and Teaching Programs submitted to NSF for financial support.

Agenda: To review and evaluate proposals as part of the selection process for awards.

Reason for Closing: The proposals being reviewed include information of a proprietary or confidential nature, including technical information; financial data, such as salaries; and personal information concerning individuals associated with the proposals. These matters are exempt under 5 U.S.C. 552b(c)(4) and (6) of the Government in the Sunshine Act.

Dated: April 24, 2001.
Susanne Bolton,
Committee Management Officer.

[FR Doc. 01-10558 Filed 4-26-01; 8:45 am]

BILLING CODE 7555-01-M